FEDERAL RESERVE SYSTEM

12 CFR Part 204

[Regulation D; Docket No. R-1433]

RIN 7100 AD 83

Reserve Requirements of Depository Institutions: Reserves Simplification

AGENCY: Board of Governors of the Federal Reserve System.

ACTION: Final rule; delay of effective date.

SUMMARY: The Board is delaying the effective date for implementation of certain provisions of its final rule amending the Board's Regulation D (Reserve Requirements of Depository Institutions) published in the Federal Register on April 12, 2012. The final rule's effective date is being delayed to allow for further development and testing of the automated systems necessary to support the implementation of certain provisions.

DATES: The effective date of amendments to 12 CFR 204.2(z), (ff), (gg) and (hh); §§ 204.5(b)(2), (d)(4)(i), (e)(1) and (e)(2); 204.6(a) and (b); and 204.10(b)(1), (b)(3), and (c), published April 12, 2012, at 77 FR 21846, is delayed from January 24, 2013, until June 27, 2013.

FOR FURTHER INFORMATION CONTACT: Sophia Allison, Senior Counsel, (202) 452-3565, or Kara Handzlik, Senior Attorney, (202) 452-3852, Legal Division; or Margaret Gillis DeBoer, Assistant Director, (202) 452-3139, or Karen Brooks, Senior Business Analyst (202) 973-6189, Division of Monetary Affairs; for users of Telecommunications Device for the Deaf (TDD) only, contact (202) 263-4869; Board of Governors of the Federal Reserve System, 20th and C Streets NW., Washington, DC 20551.

SUPPLEMENTARY INFORMATION: The Board published its final rule amending Regulation D, 12 CFR part 204, on April 12, 2012, (77 FR 21846) to implement the following four simplifications related to the administration of reserve requirements:

1. Create a common two-week maintenance period for all depository institutions;

2. Create a penalty-free band around reserve balance requirements in place of using carryover and routine penalty waivers;

3. Discontinue as-of adjustments related to deposit report revisions and replace all other as-of adjustments with direct compensation; and

4. Eliminate the contractual clearing balance program.

The Board announced in the final rule that it would implement the elimination of the contractual clearing balance program and the use of as-of adjustments earlier than it would implement the common maintenance period and the penalty-free band. The Board implemented the elimination of the contractual clearing balance program and the issuance of as-of adjustments effective July 12, 2012. The Board announced January 24, 2013, as the implementation date for the common two-week maintenance period, the penalty-free band, and the elimination of carryover and routine penalty waivers, as reflected in the following revised sections of Regulation D: §§ 204.2(z), (ff), (gg) and (hh); §§ 204.5(b)(2), (d)(4)(i), (e)(1) and (e)(2); §§ 204.6 (a) and (b); and §§ 204.10 (b)(1), (b)(3), and (c). The Board also announced that it would provide public notice no later than November 1, 2012, if the January 24, 2013, date will be delayed.

The Board is delaying until June 27, 2013, the January 24, 2013, date to allow the Federal Reserve to further develop and test the automated systems necessary to support the common two-week maintenance period, the penalty-free band, and the elimination of carry-over and routine penalty waivers. Further development and testing are necessary to ensure the effective operation of the automated systems. This delay will also facilitate a smooth transition for affected institutions by allowing them more time to develop their internal systems and prepare for implementation of these revisions. Moreover, the delay will not prejudice or create additional burden for affected institutions or Federal Reserve Banks.

Administrative Law Matters

Administrative Procedure Act

Under the Administrative Procedure Act (APA), an agency may, for good cause, find that notice and public comment are impracticable, unnecessary, or contrary to the public interest. 5 U.S.C. 553(b)(B). As noted above, the Board previously announced that it may delay the January 24, 2013, effective date for certain provisions of the final rule but would provide notice of such a delay by November 1, 2012. Moreover, the revised effective date does not impose additional burden on affected institutions and will provide those institutions with additional time for implementation. For these reasons, along with the reasons noted above, the Board has determined that there is good cause to find that publishing a notice of proposed rulemaking and providing opportunity for public comment are unnecessary.

Regulatory Flexibility Act

The Regulatory Flexibility Act (RFA) does not apply to a rulemaking where a general notice of proposed rulemaking is not required. 5 U.S.C. 603 and 604. As noted above, the Board has determined that it is unnecessary to publish a general notice of proposed rulemaking for this final rule. Accordingly, the RFA's requirements relating to an initial and final regulatory flexibility analysis do not apply.

Paperwork Reduction Act

The Board has reviewed the final rule in accordance with the Paperwork Reduction Act of 1995 (44 U.S.C. 3506; 5 CFR 1320). No collections of information pursuant to the Paperwork Reduction Act are contained in the final rule.

By order of the Board of Governors of the Federal Reserve System, October 25, 2012.
Robert deV. Frierson,
Secretary of the Board.

[FR Doc. 2012-26731 Filed 11-2-12; 8:45 am]

BILLING CODE 6210-01-P